DEPARTMENT OF VETERANS AFFAIRS

[OMB Control No. 2900-0823]

Agency Information Collection (Expanded Access to Non-VA Care Through the Veterans Choice Program)

AGENCY: Veterans Health Administration, Department of Veterans Affairs.

ACTION: Notice.

Activities: OMB Review.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before November 10, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0823 (Expanded Access to Non-VA Care through the Veterans Choice Program)” in any correspondence. During the comment period, comments may be viewed online through the FDMS.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0823 (Expanded Access to Non-VA Care through the Veterans Choice Program)” in any correspondence.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Secondary Authorization Request for VA Community Care (VA Form 10-10143e).

OMB Control Number: 2900-0823.

Type of Review: Revision (new form added).

Abstract: VA Form 10-10143e would require non-VA health care providers to submit requests for additional services supporting the original authorized plan of care to the agency. A copy of all medical and dental records (including but not limited to images, test results, and notes or other records of what care was provided and why) related to a Veteran's care provided under this Program must be submitted to VA for entry into the veteran's electronic medical record. Providers will be required to submit records produced as a result of care authorized after the beginning of the Program.

Affected Public: Individuals or Households.

Estimated Annual Burden: 289,826 burden hours.

Estimated Average Burden per Respondent: 20 minutes.

Frequency of Response: 4.56 times per year.

Estimated Number of Respondents: 190,675 respondents.

Titles: Election to Receive Authorized Non-VA Care and Selection of Provider for the Veterans Choice Program (VA Form 10-10143).

OMB Control Number: 2900-0823.

Type of Review: Extension.

Abstract: Section 17.1515 requires eligible veterans to notify VA whether the veteran elects to receive authorized non-VA care through the Veterans Choice Program, be placed on an electronic waiting list, or be scheduled for an appointment with a VA health care provider. Section 17.1515(b)(1) also allows eligible veterans to specify a particular non-VA entity or health care provider, if that entity or provider meets certain requirements.

Affected Public: Individuals or Households.

Estimated Annual Burden: 928,606 burden hours.

Estimated Average Burden per Respondent: 10 minutes.

Frequency of Response: 12.64 times per year.

Estimated Number of Respondents: 440,794 respondents.

Titles: Health-Care Plan Information for the Veterans Choice Program (VA Form 10-10143a).

OMB Control Number: 2900-0823.

Type of Review: Extension.

Abstract: Section 17.1510(d) requires eligible veterans to submit to VA information about their health-care plan to participate in the Veterans Choice Program.

Affected Public: Individuals or Households.

Estimated Annual Burden: 88,159 burden hours.

Estimated Average Burden per Respondent: 10 minutes.

Frequency of Response: 1.2 times per year.

Estimated Number of Respondents: 440,794 respondents.

Titles: Submission of Medical Record Information under the Veterans Choice Program (VA Form 10-10143b).

OMB Control Number: 2900-0823.

Type of Review: Extension.

Abstract: Participating eligible entities and providers are required to submit a copy of any medical record related to hospital care or medical services furnished under this Program to an eligible veteran.

Affected Public: Individuals or Households.

Estimated Annual Burden: 464,383 burden hours.

Estimated Average Burden Per Respondent: 5 minutes.

Frequency of Response: 29.80 times per year.

Estimated Number of Respondents: 187,000 respondents.

Titles: Submission of Information on Credentials and Licenses by Eligible Entities or Providers (VA Form 10-10143c).

OMB Control Number: 2900-0823.

Type of Review: Extension.

Abstract: Section 17.1530 requires eligible entities and providers to submit verification that the entity or provider maintains at least the same or similar credentials and licenses as those required of VA's health care providers, as determined by the Secretary.

Affected Public: Individuals or Households.

Estimated Annual Burden: 15,583 burden hours.

Estimated Average Burden per Respondent: 5 minutes.

Frequency of Response: Once annually.

Estimated Number of Respondents: 187,000 respondents.

By direction of the Secretary:
Cynthia Harvey-Pryor,
Program Specialist, Office of Privacy and Records Management, Department of Veterans Affairs.

[FR Doc. 2016-24482 Filed 10-7-16; 8:45 am]

BILLING CODE 8320-01-P